COMMISSION ON CIVIL RIGHTS

Agenda and Notice of Public Meeting of the Virginia State Advisory Committee

Notice is hereby given, pursuant to the provisions of the rules and regulations of the U.S. Commission on Civil Rights and the regulations of the Federal Advisory Committee Act (FACA), that a conference call of the Virginia Advisory Committee will convene at 11 a.m. and adjourn at 1 p.m. on Friday, August 10, 2007. The purpose of the planning meeting is for the committee to plan conduct an orientation for new committee members and plan future projects.

This conference call is available to the public through the following call-in number: 866-270-0762. Any interested member of the public may call this number and listen to the meeting. Callers can expect to incur charges for calls not initiated using the supplied call-in number or over wireless lines, and the Commission will not refund any incurred charges. Callers will incur no charge for calls using the call-in number over land-line connections. Persons with hearing impairments may also follow the proceedings by first calling the Federal Relay Service at 1-800-977-8339 and providing the Service with the conference call number.

To ensure that the Commission secures an appropriate number of lines for the public, persons are asked to register by contacting Barbara de La Viez, Civil Rights Analyst, the Eastern Regional Office, 202-376-7533, TTY 202-376-8116, by 4 p.m., August 3, 2007.

The meeting will be conducted pursuant to the provisions of the rules and regulations of the Commission and the Federal Advisory Committee Act.

Dated at Washington, DC, July 25, 2007.
Ivy L. Davis,
Acting Chief, Regional Programs Coordination Unit.

[FR Doc. E7-14670 Filed 7-27-07; 8:45 am]

BILLING CODE 6335-02-P